DEPARTMENT OF ENERGY

Federal Energy Regulatory Commission

[Project No. 2287-053, Project No. 2288-057, Project No. 2300-052, Project No. 2311-067, Project No. 2326-054, Project No. 2327-047, Project No. 2422-058, Project No. 2423-031]

Central Rivers Power NH, LLC, Great Lakes Hydro America, LLC; Notice of Applications Accepted for Filing, Soliciting Motions To Intervene and Protests, Ready for Environmental Analysis, and Soliciting Comments, Recommendations, Preliminary Terms and Conditions, and Preliminary Fishway Prescriptions

Take notice that the following hydroelectric applications have been filed with the Commission and are available for public inspection.

a. Type of Applications: New Major Licenses

b. Project Nos.: 2287-053, 2288-057, 2300-052, 2311-067, 2326-054, 2327-047, 2422-058, 2423-031

c. Dates filed: 2287-053, 2288-057: July 28, 2022. Supplemented on April 12 and July 14, 2023.

2300-052, 2311-067, 2326-054, 2327-047, 2422-058, 2423-031: August 1, 2022. Supplemented on April 12 and July 14, 2023.

d. Applicants: Central Rivers Power NH, LLC and Great Lakes Hydro America, LLC

e. Names of Projects: J. Brodie Smith, Gorham, Shelburne, Upper Gorham, Cross Power, Cascade, Sawmill, and Riverside Hydroelectric Projects

f. Location: On the Androscoggin River, in Coos County, New Hampshire.

g. Filed Pursuant to: Federal Power Act 16 U.S.C. 791 (a)—825(r).

h. Applicant Contacts: Mr. Curtis R. Mooney, Project Manager, Central Rivers Power NH, LLC, 59 Ayers Island Road, Bristol, New Hampshire 03222, (603) 744-0846, Mr. Luke Anderson, Great Lakes Hydro America, LLC, Brookfield Renewable, 150 Main St., Lewiston, Maine, 04240, (207) 755-5613, luke.anderson@brookfieldrenewable.com.

i. FERC Contact: Ryan Hansen at (202) 502-8074 or email at ryan.hansen@ferc.gov.

j. Deadline for filing motions to intervene and protests, comments, recommendations, preliminary terms and conditions, and preliminary prescriptions: 60 days from the issuance date of this notice; reply comments are due 105 days from the issuance date of this notice.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Washington, DC 20426. Submissions sent via any other carrier must be addressed to: Kimberly D. Bose, Secretary, Federal Energy Regulatory Commission, 12225 Wilkins Avenue, Rockville, Maryland 20852. All filings must clearly identify the project name and docket number on the first page: J. Brodie Smith (2287-053), Gorham (2288-057), Shelburne (2300-052), Upper Gorham (2311-067), Cross Power (2326-054), Cascade (2327-047), Sawmill (2422-058), and/or Riverside (2423-031) Hydroelectric Projects.

The Commission's Rules of Practice require all intervenors filing documents with the Commission to serve a copy of that document on each person on the official service list for the project. Further, if an intervenor files commentor documents with the Commission relating to the merits of an issue that may affect the responsibilities of a particular resource agency, they must also serve a copy of the document on that resource agency.

k. These applications have been accepted for filing and are now ready for environmental analysis.

The Council on Environmental Quality (CEQ) issued a final rule on April 20, 2022, revising the regulations under 40 CFR parts 1502, 1507, and 1508 that Federal agencies use to implement the National Environmental Policy Act (NEPA) (see National Environmental Policy Act Implementing Regulations Revisions, 87 FR 23,453-70). The final rule became effective on May 20, 2022. Commission staff intends to conduct its NEPA review in accordance with CEQ's new regulations.

l. Project Descriptions:

J. Brodie Smith: The existing J. Brodie Smith Hydroelectric Project consists of: (1) a 500-foot-long masonry and concrete U-shaped gravity dam with a maximum height of 24 feet that includes: (a) a 170-foot-long spillway with a crest elevation of 1003 feet and topped with 6.7-foot-high hinged steel flashboards and two 17-foot-high, 25-foot-wide steel roller-type sluice gates with a sill elevation of 993 feet; (b) a 256-foot-long spillway with a crest elevation of 1006.7 feet and topped with 3-foot-high pin supported wooden flashboards; and (c) two waste gates located immediately to the west of an opening in the flashboards; (2) an impoundment with a surface area of 8 acres at a normal headwater elevation of 1009.7 feet; (3) an intake structure consisting of a 500-foot-long by 100-foot-wide power canal fitted with trashracks; (4) a 1,440-foot-long, 18-foot-diameter steel penstock; (5) a 1.15 million gallon steel surge tank; (6) a 65-foot-long, 53-foot-wide powerhouse containing one generating unit with a rated capacity of 15 MW; (7) a 400-foot-long tailrace; (8) a 1,500-foot-long, 115-kV transmission line conveying power from the powerhouse to the regional grid; and (9) appurtenant facilities. The project creates an approximately 0.5-mile-long bypassed reach of the Androscoggin River.

Gorham: The existing Gorham Hydroelectric Project consists of: (1) a 417-foot-long, 20-foot-high timber crib, L-shaped dam that includes: (a) a 90-foot-long spillway topped with a 12-inch-long, 12-inch-wide wooden flashboard with a crest elevation of 772.2 feet (b) a 252-foot-long spillway topped with 5.4-foot-high hinged wooden flashboards; (c) a 15-foot-wide sluice gate; and (d) a 75-foot-long reinforced concrete sluiceway topped with 5.33 foot-high hinged wooden flashboards; (2) an impoundment with a surface area of 32 acres; (3) a 415-foot-long, 60-foot-wide, 20-foot-deep earthen power canal conveying flow from the impoundment to the powerhouse; (4) a 37.8-foot-long, 27.1-foot-wide powerhouse containing two vertical Francis turbines and two generators with a total installed capacity of 2.15 MW; (5) an 850-foot-long tailrace; (6) a 200-foot-long, 33-kV transmission line that transmits power from the powerhouse to a nearby substation; and (6) appurtenant facilities. The project creates an approximately 850-foot-long bypassed reach of the Androscoggin River.

Shelburne: The existing Shelburne Hydroelectric Project consists of: (1) a 51-foot-long concrete gravity dam that includes: (a) a 70-foot-long, 3-foot-wide concrete retaining wall along the northern shore of the Androscoggin River; (b) a 171-foot-long gated spillway section comprised of an 83-foot-long section with 9-foot-high hinged steel and wood flashboards; (c) an 88-foot-long section containing three 25-foot-long, 10-foot-high wastegates separated by 5-foot-wide concrete piers; and (d) a 27-foot-wide sluiceway ; (2) an impoundment with a surface area of approximately 250 acres at the normal full pond elevation of 734.2 feet; (3) 259 feet of dikes along the south shore of the impoundment; (4) a 17-foot-long by 14-foot-wide gate controller building located on the island adjacent to the sluiceway housing; (5) a 15-foot-long by 112-foot-high intake conveying flow from the impoundment to the powerhouse fitted with a steel bar trashrack with 3-inch clear spacing; (6) a 110-foot-long, 48.6-foot-wide powerhouse integral with the dam containing three turbines and generators a total installed capacity of 3.72 MW; (7) a 130-foot-long tailrace; (8) a 5.5-mile-long, 22-kV transmission line conveying power from the powerhouse to the regional grid; and (9) appurtenant facilities.

Upper Gorham: The existing Upper Gorham Hydroelectric Project consists of: (1) a 775-foot-long timber crib and earthen dam that includes: (a) a western 133-foot-long, earthen dike with concrete core wall and a crest elevation of 820.0 feet USGS; (b) a 300-foot-long, 18-foot-high rock-filled timber crib spillway section with 5-foot-high flashboards; (c) a 122-foot-long headgate section that regulates flow into the power canal; (d) a 113-foot-long by 16-foot-wide gatehouse integral with dam; (e) an eastern 220-foot-long earthen dike with concrete core wall; and (f) a headgate section containing ten 7.5-foot-wide stoplog gates fitted with trashracks; (2) an impoundment that is approximately 45 acres at a normal full pond elevation of 812.3 feet USGS; (3) a 3,350-foot-long, 220-foot-wide, 18-foot-deep excavated earthen power canal with riprap lining; (4) a 126-foot-long by 18-foot-wide gatehouse with 14 operable gates and trashracks with 3-inch clear spacing; (5) a 127-foot-long, 74-foot-wide, 26-foot-high powerhouse containing four horizontal shaft Francis turbines and four generators with a total installed capacity of 4.8 MW; (6) a 370-foot-long tailrace; (7) a 22-kV, 50-foot-long transmission line transmits power from the powerhouse to three 2500 kVA transformers sitting on a 46-foot long by 20-foot-wide transformer pad; and (8) appurtenant facilities. The project creates an approximately 1-mile-long bypassed reach of the Androscoggin River.

Cross Power: The existing Cross Power Hydroelectric Project consists of: (1) an approximately 467-foot-long concrete and rock fill dam that includes: (a) two concrete non-overflow sections, separated by an outcropping ledge; (b) a stoplog opening; (c) a 276-foot-long, 25-foot-high spillway with a crest elevation that ranges from 918.2 feet to 921.7 feet and topped with 42-inch-high flashboards; (d) a 19-foot-wide, 124-foot-long gatehouse equipped with a 21.6-feet-wide, 18.4-feet-high trashrack in each bay; and (e) a concrete retaining wall; (2) an impoundment with a surface area of 22 acres at a normal full pond elevation of 921.7 feet USGS; (3) an original 47-foot-wide, 146-foot-long concrete and brick powerhouse with a 47-foot-wide, 50-foot-long addition on the downstream shore side that contains five propeller turbines and five horizontal generators with a combined installed capacity of 3.22 MW; (4) a 50-foot-long tailrace; (5) a 20-foot-long transmission line transmitting power from the powerhouse to a 3,750 kVA transformer located adjacent to the eastern side of the powerhouse; and (6) appurtenant facilities.

Cascade: The existing Cascade Hydroelectric Project consists of: (1) a 583-foot-long concrete gravity dam with a maximum height of 53 feet consisting of: (a) a 313-foot-long spillway section with a crest elevation of 898.4 feet fitted with 3-foot-high flashboards for a total elevation of 901.4 feet, and (b) three non-overflow abutment sections located between the spillway and forebay gate structure on each side of the dam; (2) an impoundment with a surface area of 28 acres at a normal full pond elevation of 901.4 feet; (3) an approximately 168-foot long, 15-foot-wide forebay gate structure with fourteen 9-foot-wide, 11-foot-high wooden forebay gates; (4) a 300-foot-long and 240-foot-wide forebay with a normal water surface elevation of 901.2 feet; (5) a 4-foot-wide, 2-inch-long, 6-inch-high sluiceway; (6) a 135-foot-long, 43-foot-wide, 67-foot-high powerhouse with a 41-foot-long, 16-foot-wide addition containing three Francis turbines and three generators with a combined installed capacity of 7.92 MW; (7) a 40-foot-long tailrace; (8) a 430-foot-long, 22-kV transmission line transmitting power from the powerhouse to the regional grid; and (9) appurtenant facilities. The project creates an approximately 350-foot-long bypassed reach of the Androscoggin River.

Sawmill: The existing Sawmill Hydroelectric Project consists of: (1) an approximately 720-foot-long concrete dam with a maximum height of 15 feet that includes: (a) a 169-foot-long spillway section with a crest elevation of 1094.1 feet USGS; (b) a 134-foot-long, 22-foot-wide wastegate section, topped with five 18-foot-wide, 13-foot-high wooden gates; (c) a 99.4-foot-long, 2-foot-high spillway section with a crest elevation of 1094.2 feet; (d) a 145-foot-long, 11-foot-high spillway section topped with permanent 21-inch-high steel flashboards and a crest elevation of 1093.2 feet; (e) a 36-foot-long, 2-foot-high spillway section with crest elevation of 1094.2 feet; and (f) a 137-foot-long spillway section topped with hinged 7.5-foot-high flashboards and a crest elevation of 1087.0 feet; (2) an impoundment with a surface area of 72.5 acres at a normal full pond elevation of 1094.5 feet; (3) a headwork structure including four 9.5-foot-wide, 12-foot-high steel wheeled gates conveying flow from the impoundment to the powerhouse; (4) a 115-foot-long, 65-foot-wide, 27-foot-high powerhouse integral to the western side of the dam containing four turbines and generators with a total installed capacity of 3.2 MW; (5) a 120-foot-long tailrace at an elevation of 1077.3 feet conveying flow from the powerhouse back to the Androscoggin River; (6) a substation located approximately 25 feet west of the powerhouse; (7) an 1,800-foot-long, 22-kilovolt (kV) transmission line connecting the substation to the regional grid; and (8) appurtenant facilities. The project creates an approximately 550-foot-long bypassed reach of the Androscoggin River.

Riverside: The existing Riverside Hydroelectric Project consists of: (1) an approximately 846-foot-long, 21-foot-high rock-filled timber and concrete dam that includes: (a) a 660-foot-long spillway consisting of a 248-foot-long concrete gravity section with 30-inch-high flashboards and a crest elevation of 1076.8 feet; (b) a 235-foot-long concrete gravity section with a maximum height of 20 feet and a crest elevation of 1076.6 feet; (c) a 177-foot-long timber crib section with 29-inch-high flashboards and a crest elevation of 1076.9 feet; and (d) an integral 91-foot-long, 33-foot-wide, 54-foot-high gatehouse; (2) an impoundment with a surface area of 7 acres at a normal full pond elevation of 1076.8 feet; (3) two 9-foot-high, 16-foot-wide headgates with trashracks with 2.5 inch spacing; (4) two 1,400-foot-long, 11-foot-diameter steel penstocks; (5) a 104-foot-long, 51-foot-wide, 80-foot-tall concrete and brick powerhouse containing two vertical Francis turbines and accompanying generators rated at 3.8 and 4.1 MW for a total installed capacity of 7.9 MW; (6) a 40-foot-long tailrace; (7) a 400-foot-long, 22-kV transmission line transmitting power from the powerhouse to the regional grid; and (8) appurtenant facilities. The project creates an approximately 2,350-foot-long bypassed reach of the Androscoggin River.

m. The application filings may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the application. A copy of all other filings in reference to this application must be accompanied by proof of service on all persons listed in the service list prepared by the Commission in this proceeding, in accordance with 18 CFR 4.34(b) and 385.2010.

o. Procedural Schedule: The application will be processed according to the following schedule. Revisions to the schedule may be made as appropriate.

Milestone | Target date
Filing of Comments, Recommendations, Preliminary Terms and Conditions, and Preliminary Fishway Prescriptions | September 25, 2023.
Filing of Reply Comments | November 8, 2023.

p. Final amendments to the application must be filed with the Commission no later than 30 days from the issuance date of this notice.

q. The applicants must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

Dated: July 26, 2023.
Kimberly D. Bose,
Secretary.

[FR Doc. 2023-16303 Filed 7-31-23; 8:45 am]

BILLING CODE 6717-01-P